DEPARTMENT OF HEALTH AND HUMAN SERVICES

Centers for Disease Control and Prevention

[Docket No. CDC-2016-0083; 60Day-16-16AWM]

Proposed Data Collection Submitted for Public Comment and Recommendations

AGENCY: Centers for Disease Control and Prevention, Department of Health and Human Services.

ACTION: Notice with comment period.

SUMMARY: Centers for Disease Control and Prevention as part of its continuing efforts to reduce public burden and maximize the utility of government information, invites the general public and other Federal agencies to take this opportunity to comment on this proposed information collections, as required by the Paperwork Reduction Act of 1995. This notice invites comment on the Executive and Scientific Resources Office Access Management System (EAMTS). EAMTS is designed to house all Guest Researcher & ORISE program packets, Appointment Mechanism Determination Forms, and Title 42 Fellowship Immigration information in one central location on the Human Resources Office SharePoint Server.

DATES: Written comments must be received on or before October 17, 2016.

ADDRESSES: You may submit comments, identified by Docket No. CDC-2016-0083 by any of the following methods: Federal eRulemaking Portal: Regulations.gov. Follow the instructions for submitting comments.

Mail: Jeffrey M. Zirger, Acting Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Data Management for Executive and Scientific Resources Access Management Tracking System—New—Executive and Scientific Resource Office (ESRO), Centers for Disease Control and Prevention (CDC).

Background and Brief Description

ESRO seeks to submit and information collection request for approval of information collections through its ESRO Access Management Tracking System (EAMTS). This system will automate current manual processes for programs managed by ESRO. This new process will provide users a single, integrated location to allow for collaboration, faster processing between the programs and ESRO and a better onboarding experience for potential fellows.

EAMTS will support users by providing a single, integrated location for enterprise content management, manage documents and records by using workflows an information rights management. This business process will allow ESRO to design forms that are accessible in SharePoint through a Web Browser. Team members will be able to access critical business information, analyze and view data, and publish reports to make more informed decisions.

EAMTS will allow CIO's to submit digital packets including Guest Researcher, ORISE, Title 42 Fellowship Visa request (portion of CDC 0.1475) and Appointment Mechanism Determination Request Form (CDC 0.4601). CIO's can upload supplemental documentation as an attachment to each application, electronically track and monitor status of application, digitally sign forms and requests, receive case determinations quickly and accurately, and track the Visa status of Title 42 Fellowship requests that require Visa assistance from the Human Resources Office.

EAMTS is developed in SharePoint for CDC's Centers/Institutes/Offices (CIO) to submit required information for all of Executive and Scientific Resource Office's managed programs and for these CIO's to effectively and efficiently digitally review this information. Data is managed and maintained by appropriate CIO Staff with ground and form level permission.

Permissions to EAMTS are required to access the lists, forms, and document library. This includes entering data, clearing/approving forms, processing forms, and acknowledging data entered.

The total estimated annualized burden hours for all respondents are 1,280. There are no costs to respondents other than their time. CDC will seek a three-year approval from OMB.

Estimated Annualized Burden Hours
Type of respondents | Form name | Number of respondents | Number of responses per CIO | Average burden per response (in hours) | Total burden (in hours)
Initiator/C/I/O | CDC 0.4601 | 64 | 5 | 1 | 320
Initiator/C/I/O | CDC 0.410A | 64 | 5 | 1 | 320
Initiator/C/I/O | CDC 0.410B | 64 | 5 | 1 | 320
Initiator/C/I/O | Section C of the CDC 0.1475 | 64 | 5 | 1 | 320
Totals |  |  |  |  | 1,280

Leroy A. Richardson,
Chief, Information Collection Review Office, Office of Scientific Integrity, Office of the Associate Director for Science, Office of the Director, Centers for Disease Control and Prevention.

[FR Doc. 2016-19461 Filed 8-15-16; 8:45 am]

BILLING CODE 4163-18-P